DEPARTMENT OF HOMELAND SECURITY

Coast Guard

33 CFR Part 165

[Docket No. USCG-2010-0525]

RIN 1625-AA00

Safety Zone; Parade of Ships, Seattle SeaFair Fleet Week, Pier 66, Elliott Bay, WA

AGENCY: Coast Guard, DHS.

ACTION: Temporary final rule.

SUMMARY: The Coast Guard is establishing a temporary safety zone extending 100 yards from Pier 66, Elliott Bay, Washington to ensure adequate safety of the boating public during naval and aerial spectator events associated with the Parade of Ships for the annual Seattle SeaFair Fleet Week. This action is intended to restrict vessel traffic movement and entry into, transit through, mooring, or anchoring within these zones is prohibited unless authorized by the Captain of the Port, Puget Sound or Designated Representative.

DATES: This rule is effective from 8 a.m. until 8 p.m. on August 4, 2010.

ADDRESSES: Documents indicated in this preamble as being available in the docket, are part of docket USCG-2010-0525 and are available online by going to http://www.regulations.gov, inserting USCG-2010-0525 in the “Keyword” box, and then clicking “Search.” This material is also available for inspection or copying at the Docket Management Facility (M-30), U.S. Department of Transportation, West Building Ground Floor, Room W12-140, 1200 New Jersey Avenue, SE., Washington, DC 20590, between 9 a.m. and 5 p.m., Monday through Friday, except Federal holidays.

FOR FURTHER INFORMATION CONTACT: If you have questions on this temporary rule, call or e-mail Ensign Ashley M. Wanzer, Sector Seattle Waterways Management, Coast Guard; telephone 206-217-6175, e-mail SectorSeattleWWM@uscg.mil. If you have questions on viewing the docket, call Renee V. Wright, Program Manager, Docket Operations, telephone 202-366-9826.

SUPPLEMENTARY INFORMATION:

Regulatory Information

The Coast Guard is issuing this temporary final rule without prior notice and opportunity to comment pursuant to authority under section 4(a) of the Administrative Procedure Act (APA) (5 U.S.C. 553(b)). This provision authorizes an agency to issue a rule without prior notice and opportunity to comment when the agency for good cause finds that those procedures are “impracticable, unnecessary, or contrary to the public interest.” Under 5 U.S.C. 553(b)(B), the Coast Guard finds that good cause exists for not publishing a notice of proposed rulemaking (NPRM) with respect to this rule because immediate action is necessary to ensure the safety of spectators and participants attending Fleet Week Maritime Festival. Delaying the effective date by first publishing an NPRM would be contrary to the safety zone's intended objective since immediate action is needed to protect persons and vessels against the hazards associated with event activities, such as the pass and review of ships and accompanying aerial demonstrations. Additionally, the zone should have negligible impact on vessel transits due to the fact that vessels will be limited from the area for only a limited time and vessels can still transit in the majority of Elliott Bay during the event. Accordingly, under 5 U.S.C. 553(b)(B), the Coast Guard finds that good cause exists for not publishing an NPRM.

Basis and Purpose

The Coast Guard is establishing a temporary safety zone extending 100 yards from Pier 66, Elliott Bay, WA to ensure adequate safety for the public during the Parade of Ships for the annual Seattle SeaFair Fleet Week. For the purposes of this rule the Parade of Ships includes both the pass and review of the ships near Pier 66 and the aerial demonstrations immediately following the pass and review. These events have historically resulted in vessel congestion near Pier 66, Elliott Bay, WA which compromises participant spectator safety. This safety zone is also necessary to ensure the safety of participant vessels through providing unobstructed vessel traffic lanes to ensure unobstructed access to emergency response craft in the event of an emergency. The Captain of the Port, Puget Sound may be assisted by other Federal and local agencies in the enforcement of this safety zone.

Discussion of Rule

This rule will prohibit the movement of all vessel operators within the indicated safety zone extending 100 yards from Pier 66, Elliott Bay, Washington during period of enforcement. The temporary safety zone is delineated by the points 47°36.719′ N 122°21.099′ W, 47°36.682′ N 122°21.149′ W, 47°36.514′ N 122°20.865′ W, and 47°36.552′ N 122°20.814′ W (NAD 83). This temporary safety zone is necessary to adequately provide protection to spectators and participants of the Parade of Ships. This safety zone will be enforced 30 minutes prior to and 30 minutes following scheduled annual parade of ships scheduled on August 4th, 2010.

The Coast Guard will provide notice to the public of enforcement of this zone through both the Local Notice to Mariners and marine information broadcast on the day of the event.

Regulatory Analyses

We developed this rule after considering numerous statutes and executive orders related to rulemaking. Below we summarize our analyses based on 13 of these statutes or executive orders.

Regulatory Planning and Review

This rule is not a significant regulatory action under section 3(f) of Executive Order 12866, Regulatory Planning and Review, and does not require an assessment of potential costs and benefits under section 6(a)(3) of that Order. The Office of Management and Budget has not reviewed it under that Order.

Although this regulation will restrict access to the area, the effect of the rule will not be significant because: (i) The safety zone will be in effect for a limited period of time, (ii) the Coast Guard will give advance notification via maritime advisories so mariners can adjust their plans accordingly; and (iii) vessels may be granted permission to transit the area by the Captain of the Port or a designated representative.

Small Entities

Under the Regulatory Flexibility Act (5 U.S.C. 601-612), we have considered whether this rule would have a significant economic impact on a substantial number of small entities. The term “small entities” comprises small businesses, not-for-profit organizations that are independently owned and operated and are not dominant in their fields, and governmental jurisdictions with populations of less than 50,000.

The Coast Guard certifies under 5 U.S.C. 605(b) that this rule will not have a significant economic impact on a substantial number of small entities.

This temporary rule will affect the following entities, some of which may be small entities: The owners or operators of vessels intending to transit a portion of the Puget Sound while this rule is enforced. This safety zone will not have significant economic impact on a substantial number of small entities for the following reasons: This temporary rule will be in effect for a short time, and if safe to do so, traffic will be allowed to pass through the zone with the permission of the Captain of the Port or Designated Representative.

If you think that your business, organization, or governmental jurisdiction qualifies as a small entity and that this rule would have a significant economic impact on it, please submit a comment (see ADDRESSES) explaining why you think it qualifies and how and to what degree this rule would economically affect it.

Assistance for Small Entities

Under section 213(a) of the Small Business Regulatory Enforcement Fairness Act of 1996 (Pub. L. 104-121), we offer to assist small entities in understanding the rule so that they can better evaluate its effects on them and participate in the rulemaking process.

Small businesses may send comments on the actions of Federal employees who enforce, or otherwise determine compliance with, Federal regulations to the Small Business and Agriculture Regulatory Enforcement Ombudsman and the Regional Small Business Regulatory Fairness Boards. The Ombudsman evaluates these actions annually and rates each agency's responsiveness to small business. If you wish to comment on actions by employees of the Coast Guard, call 1-888-REG-FAIR (1-888-734-3247). The Coast Guard will not retaliate against small entities that question or complain about this rule or any policy or action of the Coast Guard.

Collection of Information

This rule calls for no new collection of information under the Paperwork Reduction Act of 1995 (44 U.S.C. 3501-3520).

Federalism

A rule has implications for federalism under Executive Order 13132, Federalism, if it has a substantial direct effect on State or local governments and would either preempt State law or impose a substantial direct cost of compliance on them. We have analyzed this rule under that Order and have determined that it does not have implications for federalism.

Unfunded Mandates Reform Act

The Unfunded Mandates Reform Act of 1995 (2 U.S.C. 1531-1538) requires Federal agencies to assess the effects of their discretionary regulatory actions. In particular, the Act addresses actions that may result in the expenditure by a State, local, or tribal government, in the aggregate, or by the private sector of $100,000,000 (adjusted for inflation) or more in any one year. Though this rule will not result in such an expenditure, we do discuss the effects of this rule elsewhere in this preamble.

Taking of Private Property

This rule will not cause a taking of private property or otherwise have taking implications under Executive Order 12630, Governmental Actions and Interference with Constitutionally Protected Property Rights.

Civil Justice Reform

This rule meets applicable standards in sections 3(a) and 3(b)(2) of Executive Order 12988, Civil Justice Reform, to minimize litigation, eliminate ambiguity, and reduce burden.

Protection of Children

We have analyzed this rule under Executive Order 13045, Protection of Children from Environmental Health Risks and Safety Risks. This rule is not an economically significant rule and does not create an environmental risk to health or risk to safety that may disproportionately affect children.

Indian Tribal Governments

This rule does not have tribal implications under Executive Order 13175, Consultation and Coordination with Indian Tribal Governments, because it does not have a substantial direct effect on one or more Indian tribes, on the relationship between the Federal Government and Indian tribes, or on the distribution of power and responsibilities between the Federal Government and Indian tribes.

Energy Effects

We have analyzed this rule under Executive Order 13211, Actions Concerning Regulations That Significantly Affect Energy Supply, Distribution, or Use. We have determined that it is not a “significant energy action” under that order because it is not a “significant regulatory action” under Executive Order 12866 and is not likely to have a significant adverse effect on the supply, distribution, or use of energy. The Administrator of the Office of Information and Regulatory Affairs has not designated it as a significant energy action. Therefore, it does not require a Statement of Energy Effects under Executive Order 13211.

Technical Standards

The National Technology Transfer and Advancement Act (NTTAA) (15 U.S.C. 272 note) directs agencies to use voluntary consensus standards in their regulatory activities unless the agency provides Congress, through the Office of Management and Budget, with an explanation of why using these standards would be inconsistent with applicable law or otherwise impractical. Voluntary consensus standards are technical standards (e.g., specifications of materials, performance, design, or operation; test methods; sampling procedures; and related management systems practices) that are developed or adopted by voluntary consensus standards bodies.

This rule does not use technical standards. Therefore, we did not consider the use of voluntary consensus standards.

Environment

We have analyzed this rule under Department of Homeland Security Management Directive 023-01 and Commandant Instruction M16475.lD, which guide the Coast Guard in complying with the National Environmental Policy Act of 1969 (NEPA) (42 U.S.C. 4321-4370f), and have concluded this action is one of a category of actions that do not individually or cumulatively have a significant effect on the human environment. This rule is categorically excluded, under figure 2-1, paragraph (34)(g), of the Instruction. This rule involves the establishment of a temporary safety zone. An environmental analysis checklist and a categorical exclusion determination are available in the docket where indicated under ADDRESSES.

List of Subjects in 33 CFR Part 165

Harbors, Marine safety, Navigation (water), Reporting and record keeping requirements, Security measures, Waterways.

For the reasons discussed in the preamble, the Coast Guard amends 33 CFR part 165, as follows:

PART 165—REGULATED NAVIGATION AREAS AND LIMITED ACCESS AREAS

1. The authority citation for Part 165 continues to read as follows:

Authority: 33 U.S.C. 1226, 1231; 46 U.S.C. Chapter 701, 3306, 3703; 50 U.S.C. 191, 195; 33 CFR 1.05-1, 6.04-1, 6.04-6, 160.5; Pub. L. 107-295, 116 Stat. 2064; Department of Homeland Security Delegation No. 0170.1

2. Add § 165.T13-150 to read as follows:

§ 165.T13-150 Safety Zone; Fleet Week Maritime Festival, Pier 66, Elliott Bay, Seattle, WA

(a) Location. The following area is a safety zone: All waters extending 100 yards from Pier 66, Elliott Bay, WA within a box encompassed by the points 47°36.719′ N 122°21.099′ W, 47°36.682′ N 122°21.149′ W, 47°36.514′ N 122°20.865′ W, and 47°36.552′ N 122°20.814′ W (NAD 83).

(b) Regulations. In accordance with the general regulations in § 165.23 of this part, no vessel operator may enter or remain in the safety zone without the permission of the Captain of the Port or Designated Representative, thirty minutes prior to the beginning of the parade of ships and thirty minutes following the conclusion of the parade of ships on August 4th, 2010. The Coast Guard will provide notice to the public of enforcement of this zone through both the Local Notice to Mariners and marine information broadcast on the day of the event.

For the purposes of this rule the Parade of Ships includes both the pass and review of the ships near Pier 66 and the aerial demonstrations immediately following the pass and review. The Captain of the Port may be assisted by other federal, state, or local agencies with the enforcement of the safety zone.

(c) Authorization. All vessel operators who desire to enter the safety zone must obtain permission from the Captain of the Port or Designated Representative by contacting the on scene patrol craft on VHF Ch 16 or the Coast Guard Sector Seattle Joint Harbor Operations Center (JHOC) via telephone at (206) 217-6001. Vessel operators granted permission to enter the zone will be escorted by the on-scene Coast Guard patrol craft until they are outside of the safety zone.

(d) Effective Period. This rule is effective from 8 a.m. until 8 p.m. on August 4, 2010, unless canceled sooner by the Captain of the Port.

Dated: June 5, 2010.
S.W. Bornemann,
Captain, U.S. Coast Guard, Captain of the Port, Puget Sound.

[FR Doc. 2010-14849 Filed 6-18-10; 8:45 am]

BILLING CODE 9110-04-P